FEDERAL COMMUNICATIONS COMMISSION

47 CFR Part 73

[DA 02-3067; MB Docket No. 02-258, RM-10500; MB Docket No. 02-259, RM-10501; MB Docket No. 02-262, RM-10504; MB Docket No. 02-264, RM-10505; MB Docket No. 02-265, RM-10556]

Radio Broadcasting Services; Dickens, Floydada, Rankin, San Diego, and Westbrook, TX

AGENCY: Federal Communications Commission.

ACTION: Final rule.

SUMMARY: This document grants five proposals that allot new channels to Dickens, Texas, Floydada, Texas, Rankin, Texas, San Diego, Texas, and Westbrook, Texas. The Audio Division, at the request of Maurice Salsa, allots Channel 294A at Dickens, Texas, as the community's first local aural transmission service. See 67 FR 57781, September 12, 2002. Channel 294A can be allotted to Dickens in compliance with the Commission's minimum distance separation requirements with a site restriction of 10.1 kilometers (6.3 miles) northeast to avoid a short-spacing to the license site of Station KEJS, Channel 293C2, Lubbock, Texas. The coordinates for Channel 294A at Dickens are 33-40-43 North Latitude and 100-45-00 West Longitude. Filing windows for Channel 294A at Dickens, Texas, Channel 255A at Floydada, Texas, Channel 229C3 at Rankin, Texas, Channel 273A at San Diego, Texas, and Channel 272A at Westbrook, Texas, will not be opened at this time. Instead, the issue of opening a filing window for these channels will be addressed by the Commission in a subsequent order. See Supplementary Information, infra.

DATES: Effective December 23, 2002.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Notice of Proposed Rule Making, MB Docket Nos. 02-258, 02-259, 02-262, 02-264, 02-265, adopted November 6, 2002, and released November 8, 2002. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW, Room CY-B402, Washington, DC, 20554, telephone 202-863-2893, facsimile 202-863-2898, or via e-mail qualexint@aol.com.

The Audio Division, at the request of Linda Crawford, allots Channel 255A at Floydada, Texas, as the community's second local aural transmission service. See 67 FR 57781, September 12, 2002. Channel 255A can be allotted to Floydada in compliance with the Commission's minimum distance separation requirements with a site restriction of 4.3 kilometers (2.7 miles) northeast to avoid a short-spacing to the license site of Station KQBR, Channel 258C1, Lubbock, Texas. The coordinates for Channel 255A at Floydada are 34-00-54 North Latitude and 101-18-29 West Longitude.

The Audio Division, at the request of Robert Fabian, allots Channel 229C3 at Rankin, Texas, as the community's first local aural transmission service. See 67 FR 57781, September 12, 2002. Channel 229C3 can be allotted to Rankin in compliance with the Commission's minimum distance separation requirements with a site restriction of 12.6 kilometers (7.8 miles) east of Rankin, Texas. The coordinates for Channel 229C3 at Rankin are 31-11-24 North Latitude and 101-48-39 West Longitude. Although concurrence has been requested for Channel 229C3 at Rankin, notification has not been received. If a construction permit is granted prior to the receipt of formal concurrence in the allotment by the Mexican government, the construction permit will include the following condition: “Operation with the facilities specified for Rankin herein is subject to modification, suspension or, termination without right to hearing, if found by the Commission to be necessary in order to conform to the 1992 USA-Mexico FM Broadcast Agreement.”

The Audio Division, at the request of Charles Crawford, allots Channel 273A at San Diego, Texas, as the community's second local aural transmission service. See 67 FR 57781, September 12, 2002. Channel 273A can be allotted to San Diego in compliance with the Commission's minimum distance separation requirements with a site restriction of 9.6 kilometers (5.9 miles) west to avoid a short-spacing to the license site of Station KNDA, Channel 275C2, Alice, Texas. The coordinates for Channel 273A at San Diego are 27-46-29 North Latitude and 98-20-04 West Longitude. Although concurrence has been requested for Channel 273A at San Diego, Texas, notification has not been received. If a construction permit is granted prior to the receipt of formal concurrence in the allotment by the Mexican government, the construction permit will include the following condition: “Operation with the facilities specified for San Diego herein is subject to modification, suspension or, termination without right to hearing, if found by the Commission to be necessary in order to conform to the 1992 USA-Mexico FM Broadcast Agreement.”

The Audio Division, at the request of Maurice Salsa, allots Channel 272A at Westbrook, Texas, as the community's first local aural transmission service. See 67 FR 57781, September 12, 2002. Channel 272A can be allotted to Westbrook in compliance with the Commission's minimum distance separation requirements with a site restriction of 6.8 kilometers (4.2 miles) west to avoid a short-spacing to the license site of Station KFZX, Channel 271C, Gardendale, Texas. The coordinates for Channel 272A at Westbrook are 32-22-24 North Latitude and 101-04-58 West Longitude. Although concurrence has been requested for Channel 272A at Westbrook, Texas, notification has not been received. If a construction permit is granted prior to the receipt of formal concurrence in the allotment by the Mexican government, the construction permit will include the following condition: “Operation with the facilities specified for Westbrook herein is subject to modification, suspension or, termination without right to hearing, if found by the Commission to be necessary in order to conform to the 1992 USA-Mexico FM Broadcast Agreement.”

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Texas, is amended by adding Dickens, Channel 294A; by adding Channel 255A at Floydada; by adding Rankin, Channel 229C3; by adding Channel 273A at San Diego; by adding Westbrook, Channel 272A.

Federal Communications Commission.
John A. Karousos,
Assistant Chief, Audio Division, Media Bureau.

[FR Doc. 02-30512 Filed 12-2-02; 8:45 am]

BILLING CODE 6712-01-P